ENVIRONMENTAL PROTECTION AGENCY

[ER-FRL-9035-6]

Environmental Impact Statements; Notice of Availability

Responsible Agency: Office of Federal Activities, General Information (202) 564-7146 or http://www2.epa.gov/nepa/.

Weekly receipt of Environmental Impact Statements (EIS)

Filed 10/02/2017 through 10/06/2017

Pursuant to 40 CFR 1506.9

Notice

Section 309(a) of the Clean Air Act requires that EPA make public its comments on EISs issued by other Federal agencies. EPA's comment letters on EISs are available at: https://cdxnodengn.epa.gov/cdx-nepa-public/action/eis/search.

EIS No. 20170198, Final, USAF, MD, Presidential Aircraft Recapitalization Program, Joint Base Andrews-Naval Air Facility, Review Period Ends: 11/15/2017, Contact: Ms Jean Renolds 210-925-4534.

EIS No. 20170200, Draft, FTA, PA, King of Prussia Rail Project, Comment Period Ends: 12/4/2017, Contact: Daniel Koenig 202-366-8224.

EIS No. 20170201, Draft, USN, CA, Hawaii-Southern Californian Training and Testing, Comment Period Ends: 12/12/2017, Contact: Nora Macariola-See 808-472-1402.

EIS No. 20170202, Draft, USFS, CO, CP District-wide Salvage, Comment Period Ends: 11/30/2017, Contact: Mike Tooley 719-274-6321.

Dated: October 9, 2017.
Kelly Knight,
Director, NEPA Compliance Division, Office of Federal Activities.

[FR Doc. 2017-22165 Filed 10-13-17; 12:00 pm]

BILLING CODE 6560-50-P